DEPARTMENT OF AGRICULTURE

Rural Utilities Service

7 CFR Part 1710

[Docket No. RUS-22-ELECTRIC-0057]

RIN 0572-AC60

Electric Program Coverage Ratios Clarification and Modifications

AGENCY: Rural Utilities Service, U.S. Department of Agriculture (USDA).

ACTION: Final rule; confirmation.

SUMMARY: The Rural Utilities Service (RUS or Agency), an agency in the United States Department of Agriculture (USDA) Rural Development Mission area, published a final rule with comment in the Federal Register on March 1, 2023, to modify its coverage ratio requirements, add an additional set of ratios, update definitions, and add definitions. Through this action, RUS is confirming the final rule as it was published as no public comments were received.

DATES: The final rule published March 1, 2023, at 88 FR 12806, is confirmed as of May 30, 2023.

FOR FURTHER INFORMATION CONTACT: Mark Bartholomew, Rural Utilities Service Electric Program, Rural Development, United States Department of Agriculture, 1400 Independence Avenue SW, STOP 1560, Washington, DC 20250; 704-544-4612, mark.bartholomew@usda.gov.

SUPPLEMENTARY INFORMATION: Rural Development is a mission area within the U.S. Department of Agriculture (USDA) comprising the Rural Utilities Service, Rural Housing Service, and Rural Business-Cooperative Service. Rural Development's mission is to increase economic opportunity and improve the quality of life for all rural Americans. Rural Development meets its mission by providing loans, loan guarantees, grants, and technical assistance through numerous programs aimed at creating and improving housing, business, and infrastructure throughout rural America.

The RUS Electric Program provides funding to maintain, expand, upgrade, and modernize America's rural electric infrastructure. The loans and loan guarantees finance the construction or improvement of electric distribution, transmission, and generation facilities in rural areas. In an effort by the RUS Electric Program to administer its program in an efficient and effective manner while improving its customer service and experience, and in response to requests from the RUS Electric Program borrowers, the Electric Program undertook a systematic review of regulations and procedures in place to administer its program. In addition to this final rule, the Electric Program has completed two other streamlining efforts to date.

The final rule that published March 1, 2023 (88 FR 12806), included a 60-day comment period that ended on May 1, 2023. The Agency has not received any comments on the final rule.

With no comments on this rule, the Agency confirms the final rule without change.

Andrew Berke.
Administrator, Rural Utilities Service.

[FR Doc. 2023-10637 Filed 5-22-23; 8:45 am]

BILLING CODE 3410-15-P